DEPARTMENT OF STATE

[Public Notice 3808]

Determination Regarding Export-Import Bank Financing of Certain Defense Articles and Services for the Government of the Dominican Republic

Pursuant to section 2(b)(6) of the Export-Import Bank Act of 1945, as amended (the “Act”), Executive Order 11958 of January 18, 1977, as amended by Executive Order 12680 of July 5, 1989, and State Department Delegation of Authority No. 245 of April 23, 2001, I hereby determine that:

(1) The defense articles and services for which the Government of the Dominican Republic has requested U.S. Export-Import Bank (Ex-Im) financing, the six naval patrol vessels to be rebuilt and the two new naval patrol vessels to be purchased, are being sold primarily for anti-narcotics purposes.

(2) The sale of such defense articles and services is in the national interest of the United States.

(3) The requirement for a determination that the Government of the Dominican Republic has complied with all U.S.-imposed end use restrictions on the use of defense articles and services previously financed under the Act is inapplicable at this time because no such prior sales have taken place.

(4) The requirement for a determination that the Government of the Dominican Republic has not used defense articles or services previously provided under the Act to engage in a consistent pattern of gross violations of internationally recognized human rights is also inapplicable at this time. As stated above, no such prior transactions have taken place.

This determination shall be reported to Congress and shall be published in the Federal Register.

Dated: August 27, 2001.
Richard L. Armitage,
Deputy Secretary of State, Department of State.

[FR Doc. 01-25402 Filed 10-9-01; 8:45 am]

BILLING CODE 4710-07-P